Title 3—

The President

Presidential Determination No. 2002-28 of August 14, 2002

Presidential Determination on Military Drawdown for

Tunisia

Memorandum for the Secretary of State [and] the Secretary of Defense

Pursuant to the authority vested in me by the Constitution and laws of the United States, including title III (Foreign Military Financing) of the Kenneth M. Ludden Foreign Operations, Export Financing, and Related Programs Appropriations Act, 2002 (Public Law 107-115), I hereby direct the drawdown of defense articles and services from the stocks of the Department of Defense, and military education and training of the aggregate value of $5 million for Tunisia, for the purposes of part II of the Foreign Assistance Act of 1961, as amended.

The Secretary of State is authorized and directed to publish this determination in the Federal Register.

B

THE WHITE HOUSE,

Washington, August 14, 2002.

[FR Doc. 02-21554

Filed 8-21-02; 8:45 am]

Billing code 4710-10-M